DEPARTMENT OF THE INTERIOR

Bureau of Land Management

[CO-930-1430-ET; COC-28315]

Public Land Order No. 7640; Revocation of Secretarial Order Dated September 4, 1936; Colorado

AGENCY: Bureau of Land Management, Interior.

ACTION: Public land order.

SUMMARY: This order revokes a Secretarial Order in its entirety as it affects the remaining 800 acres of National Forest System land withdrawn for the Bureau of Reclamation's Western Slope Survey/Yampa-White Reclamation Project. This order opens the land to such forms of disposition as may by law be authorized on National Forest System land and to mining.

DATES: Effective July 18, 2005.

FOR FURTHER INFORMATION CONTACT: Doris E. Chelius, BLM Colorado State Office, 2850 Youngfield Street, Lakewood, Colorado 80215-7093, 303-239-3706.

SUPPLEMENTARY INFORMATION: The Bureau of Reclamation has determined that this land is no longer needed for reclamation purposes and has requested the revocation.

Order

By virtue of the authority vested in the Secretary of the Interior by Section 204(a) of the Federal Land Policy and Management Act of 1976, 43 U.S.C. 1714 (2000), it is ordered as follows:

1. The Secretarial Order dated September 4, 1936, which withdrew National Forest System land for the Bureau of Reclamation Western Slope Survey/Yampa-White Project, is hereby revoked in its entirety:

Routt National Forest, Sixth Principal Meridian

T. 1 N., R. 86 W.,

Sec. 16;

Sec. 17, SE¼.

The area described contains 800 acres in Garfield County.

2. At 9 a.m. on July 18, 2005, the land will be opened to such forms of disposition as may by law be authorized on National Forest System lands, including location and entry under the United States mining laws, subject to valid existing rights, the provisions of existing withdrawals, other segregations of record, and the requirements of applicable law. Appropriation of any of the land described in this order under the general mining laws prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: May 31, 2005
Rebecca W. Watson,
Assistant Secretary—Land and Minerals Management.

[FR Doc. 05-11857 Filed 6-15-05; 8:45 am]

BILLING CODE 4310-JB-P